DEPARTMENT OF DEFENSE

Department of the Army, U.S. Army Corps of Engineers

Notice of Additional Public Meeting—Draft Environmental Impact Statement for the Lower Yellowstone Intake Diversion Dam Fish Passage Project, Dawson County, Montana

AGENCY: Department of the Army, U.S. Army Corps of Engineers, DoD.

ACTION: Notice.

SUMMARY: In response to public request, a third public meeting is scheduled for the Draft Environmental Impact Statement for the Lower Yellowstone Intake Diversion Dam Fish Passage Project. The notice of availability and two public meetings published in the Federal Register on June 3, 2016 (81 FR 35754). This third public meeting will be held on Thursday, June 30, 2016, from 5:30 p.m. to 9:00 p.m., at the Lincoln Center, 415 N. 30th Street in Billings, MT. The meeting will begin with an open house at 5:30 p.m., followed by a formal presentation at 6:00 p.m.

FOR FURTHER INFORMATION CONTACT: Ms. Tiffany Vanosdall, U.S. Army Corps of Engineers, 1616 Capitol Ave, Omaha, NE 68102, or tiffany.k.vanosdall@usace.army.mil.

SUPPLEMENTARY INFORMATION: None.

Brenda S. Bowen,
Army Federal Register Liaison Officer.

[FR Doc. 2016-13883 Filed 6-13-16; 8:45 am]

BILLING CODE 3720-58-P